DEPARTMENT OF COMMERCE

National Oceanic and Atmospheric Administration

[Docket Number 041013281-4281-01]

NOAA Line Office Strategic Plans

AGENCY: National Oceanic and Atmospheric Administration (NOAA), Commerce.

ACTION: Notice and request for comments.

SUMMARY: The National Oceanic and Atmospheric Administration (NOAA) is revising the Strategic Plans of five Line Offices. NOAA recently updated its Strategic Plan for the period 2005-2010 to reflect updated stakeholder priorities, recent external events, and changes to NOAA's operations. The plan establishes the goals for NOAA and the approaches taken to account for results. The following five NOAA Line Offices are now updating their Strategic Plans to be consistent with the new NOAA Strategic Plan: National Environmental Satellite, Data, and Information Service (NESDIS), National Marine Fisheries Service (NMFS), National Ocean Service (NOS), National Weather (NWS) and the Office of Oceanic and Atmospheric Research (OAR). NOAA is seeking broad public review of the Line Office Strategic Plans. NOAA encourages all stakeholders and users to review the Line Office Plans and provide comments. All comments received will be reviewed and considered in the final drafting of the NOAA Line Office Strategic Plans.

DATES: Public comments on this document must be received at the appropriate mailing or e-mail address (see ADDRESSES) on or before 5 p.m., local time, November 30, 2004.

ADDRESSES: Send comments to Dr. James H. Butler, Acting Director, NOAA Strategic Planning Office, Office of Program Planning and Integration, National Oceanic and Atmospheric Administration (NOAA), Room 15755, 1315 East-West Highway, Silver Spring, MD 20910. Comments may be submitted via e-mail to strategic.planning@noaa.gov. The draft NOAA Line Office Strategic Plans and the New NOAA Strategic Plan have been posted at http://www.spo.noaa.gov/, and NOAA will post the final Line Office Strategic Plans at http://www.spo.noaa.gov/.

FOR FURTHER INFORMATION CONTACT: Mr. Joshua Lott, phone: 301-713-1622, Extension 210, fax: 301-713-0585.

SUPPLEMENTARY INFORMATION: NOAA is soliciting general comments on each of the five Line Office Plans. All of the plans describe how the Line Offices will execute programs and activities to achieve NOAA's strategic outcomes. The NESDIS plan focuses on providing quality observations and timely access to global environmental data and information in support of the Nation's economy, security, environment, and quality of life. The NMFS plan describes how the Line Office activities directly support achieving NOAA's strategic goal to Protect, Restore, and Manage the Use of Coastal and Ocean Resources through an Ecosystem Approach to Management, and how NMFS' activities also support NOAA's goal to Understand Climate Variability and Change to Enhance Society's Ability to Plan and Respond. The NOS plan lists the Line Office priorities, and focuses on furthering the NOA Ecosystems, Weather and Water, and Commerce and Transportation Mission Goals. The NWS plan explains how the Line Office intends to fulfill its mission of providing weather, water, air quality, space weather, and climate forecasts and warnings for the United States, its territories, adjacent waters, and ocean areas for the protection of life and property and the enhancement of the national economy. Finally, the OAR plan describes how it intends to fulfill its mission of conducting environmental research, providing scientific information and research leadership, and transferring research into products and services to meet evolving economic, social, and environmental needs.

Dated: October 19, 2004.
Mary M. Glackin,
NOAA Assistant Administrator for Program Planning and Integration.

[FR Doc. 04-23853 Filed 10-22-04; 8:45 am]

BILLING CODE 3510-NW-M